ENVIRONMENTAL PROTECTION AGENCY

[ER-FRL-6664-8]

Environmental Impacts Statements; Notice of Availability

Responsible Agency: Office of Federal Activities, General Information (202) 564-7167 or http://www.epa.gov/compliance/nepa/.

Weekly receipt of Environmental Impact Statements Filed 06/20/2005 Through 06/24/2005 Pursuant to 40 CFR 1506.9.

EIS No. 20050256, Draft EIS, AFS, MT, Beaverhear-Deerlodge National Forest Draft Revised Land and Resource Management Plan, Implementation, Beaverhead, Butte-Silver Bow, Deerlodge, Granite, Jefferson, Madison Counties, MT, Comment Period Ends: 08/15/2005, Contact: Marty Gardner 406-683-3860.

EIS No. 20050257, Final EIS, AFS, MT, Northeast Yaak Project, Proposed Harvest to Reduce Fuels in Old Growth, Implementation, Kootenai National Forest, Three Rivers Ranger District, Lincoln County, MT, Wait Period Ends: 08/01/2005, Contact: Kathy Mohar 406-295-4693.

EIS No. 20050258, Final EIS, AFS, OR, B&B Fire Recovery Project, Proposed Harvest of Fire-Killed Trees, Reduction of Fuels, Planting of Tree, Deschutes National Forest, Sisters Ranger District, Jefferson and Deschutes Counties, OR, Wait Period Ends: 08/01/2005, Contact: Brent Ralston 541-383-5784.

EIS No. 20050259, Draft EIS, FHW, NY, Southtowns Connector/Buffalo Outer Harbor Project, Improvements on the NYS Route 5 Corridor from Buffalo Skyway Bridge to NYS Route 179, in the City of Buffalo, City of Lackawanna and Town of Hamburg, Erie County, NY, Comment Period Ends: 08/15/2005, Contact: Amy Jackson-Grove 518-431-4131.

EIS No. 20050260, Draft EIS, AFS, AK, Scott Peak Project Area, Harvesting Timber and Development of Road Management, Tongrass National Forest, Petersburg Ranger District, Northeat of Kupreanof Island, AK , Comment Period Ends: 08/15/2005, Contact: Patty Grantham 907-772-3871.

EIS No. 20050261, Final EIS, IBR, CA, Cental Valley Project Long-Term Water Service Contract Renewals -American River Division, Proposes to Renew Long-Term Water Service Contracts, Sacramento, Placer and El Dorado Counties, CA, Wait Period Ends: , 08/01/2005Contact: David Robinson 916-989-7179.

EIS No. 20050262, Draft EIS, FHW, DC, Klingle Road Reconstruction Project, Reconstructing for Vehicular and Recreational Uses, Between Porter Street, NW and Cortland Place, NW, Funding, Washington, DC, Comment Period Ends: 08/15/2005, Contact: Michael Hicks 202-219-3513.

EIS No. 20050263, Final EIS, AFS, CA, Power Fire Restoration Project, To Reduce Long-Term Fuel Loading for the Purpose of Reducing Future Severity and Resistance to Control, Amador Ranger District, Eldorado National Forest, Amado County, CA,Wait Period Ends: 08/01/2005, Contact: Patricia Ferrell 530-642-5146.

EIS No. 20050264, Draft EIS, NPS, ID, Minidoka Internment National Monument (Former Minidoka Relocation Center) , General Management Plan, Implementation, Jerome County, ID, Comment Period Ends: 09/19/2005, Contact: Neil King 208-837-4793.

EIS No. 20050265, Final EIS, NPS, AZ, Chiricahua National Monument Fire Management Plan (FMP), Implementation, AZ, Wait Period Ends: 08/01/2005, Contact: Alan Whalon 520-824-3560.

EIS No. 20050266, Draft EIS, DOE, 00, Proposed Consolidation of Nuclear Operations Related to Production of radioisotope Power Systems, Located or Planned Sites: Oak Ridge National Laboratory (ORNL), Tennessee; Los Alamos National Laboratory (LANL), New Mexico; and the Idaho National Laboratory (INL), Idaho, TN, NM, ID, Comment Period Ends: 08/29/2005, Contact: Timothy A. Frazier 301-903-9420.

EIS No. 20050267, Final EIS, NRC, NM, National Enrichment Facility (NEF), To Construct, Operate, and Decommission a Gas Centrifuge Uranium Enrichment Facility, License Application, NUREG-1790, near Eunice, Lea County, NM, Wait Period Ends: 08/01/2005, Contact: Melanie Wong 301-415-6262.

EIS No. 20050268, Draft EIS, NOA, 00, Programmatic—Codified Regulations at 50 CFR 300 Subparts A and G Implementing Conservation and Management Measures Adopted by the Commission for the Conservation of Antarctic Marine Living Resources, Comment Period Ends: 08/15/2005, Contact: Robert B. Gorrell 301-713-1193.

EIS No. 20050269, Final EIS, AFS, CA, Freds Fire Restoration Project, To Reduce Long-Term Fuel Loading for the Purpose of Reducing Future Fire Severity and Resistance to Control, Eldorado National Forest, El Dorado County, CA, Wait Period Ends: 08/01/2005, Contact: Laura Hierholzer 530-647-53892.

EIS No. 20050270, Final EIS, NRC, AL, Generic—License Renewal of Nuclear Plants for Browns Ferry, Unit 1, 2 and 33 (TAC Nos. MC7168, MC1769, and MC1770), Supplement 21 to NUREG-1437, Implementation, Athens, AL, Wait Period Ends: 08/01/2005, Contact: Dr. Michael Masnik 301-415-1191.

EIS No. 20050271, Final EIS, AFS, MT, Gallatin National Forest Noxious and Invasive Weed Control Project, To Prevent and Reduce Loss of Native Plant, Bozeman, Carbon, Madison, Gallatin, Meagher, Park, and Sweet Grass Counties, MT, Wait Period Ends: 08/01/2005, Contact: Susan LaMont 406-823-6976.

EIS No. 20050272, Final EIS, NRS, OR, Williamson River Delta Restoration Project, To Restore and Maintain the Ecological Functions of the Delta, Williamson River, Klamath County, OR, Wait Period Ends: 08/01/2005, Contact: Kevin Conroy 541-883-6924, Ext 115.

EIS No. 20050273, Final EIS, AFS, ID, Porcupine East, 9 Allotment Grazing Analysis Project, Authorizing Livestock Grazing, Caribou-Targhee National Forest, Dubois Ranger District, Cenntenial Mountains, Clark County, ID, Wait Period Ends: 08/01/2005, Contact: Shane Q. Jacobson 208-374-5422.

Dated: June 28, 2005.
Robert W. Hargrove,
Director, NEPA Compliance Division, Office of Federal Activities.

[FR Doc. 05-13044 Filed 6-30-05; 8:45 am]

BILLING CODE 6560-50-P